DEPARTMENT OF THE INTERIOR

Fish and Wildlife Service

[FWS-R7-ES-2020-N045; FXES11140700000-201-FF07CAFB00]

Endangered and Threatened Wildlife and Plants; Initiation of 5-Year Status Review of the Spectacled Eider (Somateria fischeri)

AGENCY: Fish and Wildlife Service, Interior.

ACTION: Notice; request for information.

SUMMARY: We, the U.S. Fish and Wildlife Service, are initiating a 5-year status review of the spectacled eider under the Endangered Species Act. A 5-year status review is based on the best scientific and commercial data available at the time of the review. We are requesting submission of any new information on this species that has become available since the last review of this species.

DATES: To ensure consideration, we must receive your comments and information by October 30, 2020. However, we will accept information about the species at any time.

ADDRESSES: Please submit your information by one of the following methods:

• Email: kate_martin@fws.gov; or

• U.S. mail or hand delivery: U.S. Fish and Wildlife Service, Attention: Kate Martin, Fisheries and Ecological Services, 1011 East Tudor Road, Anchorage, AK 99503.

For more about submitting information, see Request for Information in the SUPPLEMENTARY INFORMATION section.

FOR FURTHER INFORMATION CONTACT: Kate Martin, by telephone at 907-786-3459. Individuals who are hearing impaired or speech impaired may call the Federal Relay Service at 800-877-8339 for TTY assistance.

SUPPLEMENTARY INFORMATION: We, the U.S. Fish and Wildlife Service (Service), are initiating a 5-year status review of the spectacled eider (Somateria fischeri) under the Endangered Species Act of 1973, as amended (ESA; 16 U.S.C. 1531 et seq.). A 5-year status review is based on the best scientific and commercial data available at the time of the review; therefore, we are requesting submission of any new information on this species that has become available since the last 5-year review was conducted in 2010.

Why do we conduct 5-year reviews?

Under the ESA, we maintain Lists of Endangered and Threatened Wildlife and Plants (which we collectively refer to as the List) in the Code of Federal Regulations (CFR) at 50 CFR 17.11 (for animals) and 17.12 (for plants). Section 4(c)(2)(A) of the ESA requires us to review each listed species' status at least once every 5 years. Further, our regulations at 50 CFR 424.21 require that we publish a notice in the Federal Register announcing those species under active review. For additional information about 5-year reviews, go to http://www.fws.gov/endangered/what-we-do/recovery-overview.html.

What information do we consider in our reviews?

In conducting these reviews, we consider the best scientific and commercial data that have become available since the listing determination or most recent status review, such as:

(1) The biology of the species, including but not limited to population trends, distribution, abundance, demographics, and genetics;

(2) Habitat conditions, including but not limited to amount, distribution, and suitability;

(3) Conservation measures that have been implemented that benefit the species;

(4) Threat status and trends in relation to the five listing factors (as defined in section 4(a)(1) of the ESA); and

(5) Other new information, data, or corrections, including but not limited to taxonomic or nomenclatural changes, identification of erroneous information contained in the List, and improved analytical methods.

Any new information will be considered during the 5-year review and will also be useful in evaluating the ongoing recovery programs for the species.

Species under review

Entity listed: Spectacled Eider (Somateria fischeri).

• Where listed: Wherever found.

• Classification: Threatened.

• Date listed (publication date for final listing rule): May 10, 1993.

• Federal Register citation for final listing rule: 58 FR 27474.

Request for Information

To ensure that a 5-year review is complete and based on the best available scientific and commercial information, we request new information from all sources. See what information do we consider in our review? for specific criteria. If you submit information, please support it with documentation such as maps, bibliographic references, methods used to gather and analyze the data, and/or copies of any pertinent publications, reports, or letters by knowledgeable sources.

Public Availability of Comments

Before including your address, phone number, email address, or other personal identifying information in your comments, you should be aware that your entire comment—including your personal identifying information—may be made publicly available at any time. While you can ask us in your comment to withhold your personal identifying information from public review, we cannot guarantee that we will be able to do so.

Completed and Active Reviews

A list of all completed and currently active 5-year status reviews addressing species for which the Alaska Region of the Service has the lead responsibility is available at https://www.fws.gov/alaska/pages/endangered-species-program/recovery-endangered-species.

Authority

This document is published under the authority of the Endangered Species Act of 1973, as amended (16 U.S.C. 1531 et seq.).

Mary Colligan,
Assistant Regional Director, Alaska Region.

[FR Doc. 2020-19084 Filed 8-28-20; 8:45 am]

BILLING CODE 4333-15-P